INTERNATIONAL TRADE COMMISSION

[Investigation Nos. 701-TA-426 and 731-TA-984-985 (Final)]

Sulfanilic Acid From Hungary and Portugal

AGENCY: International Trade Commission.

ACTION: Revised schedule for the subject investigations.

EFFECTIVE DATE: May 30, 2002.

FOR FURTHER INFORMATION CONTACT: Gail Burns (202-205-2501), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION: Effective on May 6, 2002, the Commission established a schedule for the conduct of the final phase of the subject investigations (Federal Register 67 FR 35832, May 21, 2002). The applicable statute directs that the Commission make its final injury determination within 45 days after the final determination by the U.S. Department of Commerce, which is September 18, 2002 (Federal Register 67 FR 36151, May 23, 2002). The Commission, therefore, is revising its schedule.

The Commission's new schedule for the investigations is as follows: requests to appear at the hearing must be filed with the Secretary to the Commission not later than September 17, 2002; the prehearing conference, if needed, will be held at the U.S. International Trade Commission Building at 9:30 a.m. on September 20, 2002; the prehearing staff report will be placed in the nonpublic record on September 11, 2002; the deadline for filing prehearing briefs is September 18, 2002; the hearing will be held at the U.S. International Trade Commission Building at 9:30 a.m. on September 24, 2002; the deadline for filing posthearing briefs is October 1, 2002; the Commission will make its final release of information on October 15, 2002; and final party comments are due on October 17, 2002.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: June 3, 2002
By order of the Commission.
Marilyn R. Abbott,
Secretary.

[FR Doc. 02-14329 Filed 6-5-01; 8:45 am]

BILLING CODE 7020-02-U